ENVIRONMENTAL PROTECTION AGENCY

40 CFR Part 52

[EPA-R09-OAR-2023-0267; FRL-10958-02-R9]

Second 10-Year Maintenance Plan for the 24-Hour PM10 Standards; Sacramento County Planning Area, California

AGENCY: Environmental Protection Agency (EPA).

ACTION: Final rule.

SUMMARY: The Environmental Protection Agency (EPA) is taking final action under the Clean Air Act (CAA or “Act”) to approve the “Second 10-Year PM10 Maintenance Plan for Sacramento County” (“Second 10-Year Maintenance Plan” or “Plan”) as a revision to the state implementation plan (SIP) for the State of California (“State”). The Second 10-Year Maintenance Plan includes, among other elements, a base year emissions inventory, a maintenance demonstration, contingency provisions, and motor vehicle emissions budgets (“budgets”) for use in transportation conformity determinations, to ensure the continued maintenance of the national ambient air quality standards (NAAQS) for particulate matter of 10 microns or less (PM10). As part of this rulemaking, the EPA is finalizing its finding that the 2024, 2027, and 2033 motor vehicle emission budgets are adequate for use in transportation conformity.

DATES: This action will be effective on April 15, 2024.

ADDRESSES: The EPA has established a docket for this action under Docket ID No. EPA-R09-OAR-2023-0267. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Michael Dorantes, Geographic Strategies and Modeling Section (AIR-2-2), EPA Region IX, (415) 972-3934, dorantes.michael@epa.gov.

SUPPLEMENTARY INFORMATION: Throughout this document, “we,” “us,” and “our” refer to the EPA.

Table of Contents

I. Summary of Proposed Action

II. Public Comments and EPA Responses

III. Final Action

IV. Statutory and Executive Order Reviews

I. Summary of Proposed Action

On September 22, 2023, the EPA proposed to approve the Second 10-Year Maintenance Plan prepared by the Sacramento Metropolitan Air Quality Management District (SMAQMD or “District”), and submitted by the California Air Resources Board (CARB) on October 21, 2021, as a revision to the California SIP.¹ In doing so, we proposed to find that the Second 10-Year Maintenance Plan adequately demonstrates that the Sacramento County planning area will maintain the 1987 annual NAAQS for PM10 through the year 2033 (i.e., for more than 10 years beyond the first 10-year maintenance period).² We also proposed to find the motor vehicle emissions budgets in the Plan for direct PM10 and NOX for the years 2024, 2027, and 2033 adequate and to approve the budgets for use in transportation conformity determinations as they meet all applicable criteria for such budgets including the adequacy criteria under 40 CFR 93.118. The EPA announced the availability of the Plan and related motor vehicle emissions budgets as part of proposed rulemaking.

¹ 88 FR 65336 (September 22, 2023).

² In our proposed action, the EPA committed to examine any quality-assured and certified PM10 monitoring data that would be newly available between proposed and final action to ensure that Sacramento County continues to maintain the PM10 NAAQS. Our proposed action examined monitoring data through 2022, and since that time, there have been no additional quality-assured and certified PM10 data available from Sacramento County.

II. Public Comments and EPA Responses

The EPA's notice of proposed rulemaking provided a 30-day public comment period that ended on October 23, 2023. We received no comments.

III. Final Action

For the reasons discussed in our proposed action and herein, the EPA is taking final action to approve the Second 10-Year Maintenance Plan for Sacramento County, submitted by CARB on October 21, 2021, as a revision to the California SIP. We are approving the maintenance demonstration and contingency provisions as meeting all of the applicable requirements for maintenance plans and related contingency provisions in CAA section 175A. We are also finding the motor vehicle emissions budgets for 2024, 2027, and 2033 adequate and approving the budgets for transportation conformity purposes because they meet all applicable criteria for such budgets including the adequacy criteria under 40 CFR 93.118(e).³

³ Pursuant to 40 CFR 93.118(f)(2)(iii), the EPA's adequacy determination is effective upon publication of this final rule in the Federal Register.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, this rulemaking does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate environmental justice considerations as part of its SIP submittal; the CAA and applicable implementing regulations neither prohibit nor require such an evaluation. The EPA did not perform an EJ analysis and did not consider EJ in this action. If finalized, this action is expected to have a neutral to positive impact on the air quality of the affected area. Consideration of EJ is not required as part of this action, and there is no information in the record inconsistent with the stated goal of E.O. 12898 of achieving environmental justice for people of color, low-income populations, and Indigenous peoples.

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by May 13, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Particulate matter, Reporting and recordkeeping requirements, Sulfur dioxide, Volatile organic compounds.

Authority: 42 U.S.C. 7401 et seq.

Dated: March 6, 2024.
Martha Guzman Aceves,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraph (c)(603)(ii)(B) and reserved paragraph (c)(603)(ii)(C) to read as follows:

§ 52.220 Identification of plan—in part.

* * * * *

(c) * * *

(603) * * *

(ii) * * *

(B) Sacramento Metropolitan Air Quality Management District.

(1) “Second 10-Year PM10 Maintenance Plan for Sacramento County,” adopted on September 23, 2021.

(2) [Reserved]

(C) [Reserved]

* * * * *

[FR Doc. 2024-05260 Filed 3-13-24; 8:45 am]

BILLING CODE 6560-50-P